DEPARTMENT OF LABOR

Employment and Training Administration

[TA-W-82,900A]

Honeywell International, Inc., Aerospace Order Management Division, and Customer Service Division, Including On-Site Leased Workers From Tapfin-Manpower Group Solutions and Optiscan, Inc., Tempe, Arizona; Amended Certification Regarding Eligibility To Apply for Worker Adjustment Assistance

In accordance with Section 223 of the Trade Act of 1974, as amended (“Act”), 19 U.S.C. 2273, the Department of Labor issued a Certification of Eligibility to Apply for Worker Adjustment Assistance on November 1, 2013, applicable to workers of Honeywell International, Inc., Aerospace Order Management Division, including on-site leased workers from Tapfin-Manpower Group Solutions, Tempe, Arizona, (TA-W-82,900A). Furthermore, the Department of Labor amended its Certification of Eligibility to include the Customer Service Division on August 22, 2014.

At the request of a worker from OptiScan, Inc. the Department reviewed the certification for workers of the subject firm. The workers are engaged in activities related to the supply of order management services and customer services. The investigation confirmed that the subject worker group includes on-site leased workers from OptiScan, Inc.

The amended notice applicable to TA-W-82,900A is hereby issued as follows:

All workers of Honeywell International, Inc., Aerospace Order Management Division, Customer Service Division, including on-site leased workers from Tapfin-Manpower Group Solutions and OptiScan, Inc., Tempe, Arizona, (TA-W-82,900A) who became totally or partially separated from employment on or after July 11, 2012 through November 1, 2015, and all workers in the group threatened with total or partial separation from employment on the date of certification through November 1, 2015, are eligible to apply for adjustment assistance under Chapter 2 of Title II of the Trade Act of 1974, as amended.

Signed in Washington, DC, this 21st day of February 2016.
Jessica R. Webster,
Certifying Officer, Office of Trade Adjustment Assistance.

[FR Doc. 2016-06617 Filed 3-23-16; 8:45 am]

BILLING CODE P